ENVIRONMENTAL PROTECTION AGENCY

[FRL-8290-8]

Science Advisory Board Staff Office; Notification of Two Public Teleconferences and a Meeting of the Science Advisory Board Integrated Nitrogen Committee

AGENCY: Environmental Protection Agency (EPA).

ACTION: Notice.

SUMMARY: The Environmental Protection Agency (EPA or Agency) Science Advisory Board Staff Office announces two public teleconferences and a meeting of the EPA Science Advisory Board Integrated Nitrogen Committee.

DATES: The teleconference meetings will be held on Thursday, April 19, 2007, from 3 p.m. to 5 p.m. (Eastern Time) and on June 8, 2007 from 2 p.m. to 4 p.m. (Eastern Time). A face-to-face meeting will be held on June 20, 2007 from 1 p.m. to 5 p.m. (Eastern Time), continuing from 8:30 a.m. to 5 p.m. (Eastern Time) on June 21, and from 8:30 a.m. to 3 p.m. on June 22.

ADDRESSES: The teleconferences will be conducted by phone only. The June 20-22, 2007 face-to-face meeting will be held at the SAB Conference Center, located at 1025 F Street, NW., Washington, DC 20004.

FOR FURTHER INFORMATION CONTACT: Any member of the public who wishes to obtain the call-in number and access code for the teleconferences; attend the face-to-face meeting; or receive further information concerning the teleconferences and meeting may contact Ms. Kathleen White, Designated Federal Officer (DFO). Ms. White may be contacted at the EPA Science Advisory Board (1400F), U.S. Environmental Protection Agency, 1200 Pennsylvania Avenue, NW., Washington, DC 20460; or via telephone/voice mail: (202) 343-9878; fax: (202) 233-0643; or e-mail at: white.kathleen@epa.gov. General information concerning the EPA SAB can be found on the EPA Web site at http://www.epa.gov/sab.

SUPPLEMENTARY INFORMATION: Background: The SAB Integrated Nitrogen Committee is conducting an evaluative study on the need for integrated research and control management strategies. To begin its work, the Committee held a public meeting on January 30-31, 2007, to develop a work plan for the study. Background information on that meeting was provided in a Federal Register notice (72 FR 1989, January 17, 2007). On the April 19, 2007 call the Committee will discuss information needs on sources, transport, fate, effects, impacts and metrics relating to reactive nitrogen in the environment; and discuss options for meeting those needs through the literature, committee work, and invited speakers for the face-to-face meeting. On the June 8, 2007 call, members of the Committee will present the information they have developed, make recommendations for refining the agenda, and conduct other Committee business. At the June 20-22, 2007 face-to-face meeting the Committee will complete information gathering for the first phase of its work, relating to sources, transport, fate, effects, impacts and metrics relating to reactive nitrogen in the environment and make appropriate related writing assignments for its report. The Committee will also begin the second phase of its work addressing the relationship of nitrogen to ecosystem scale through case studies. The Committee may undertake other Committee business as needed and time allows.

Availability of Meeting Materials: The draft agenda, and other materials for this teleconference will be posted on the SAB Web site at http://epa.gov/sab/panels/ad_hoc_inr_committee.htm prior to the meeting

Procedures for Providing Public Input: Interested members of the public may submit relevant written or oral information for the Integrated Nitrogen Committee to consider during the course of their study. Oral Statements: In general, individuals or groups requesting an oral presentation at a public teleconference will be limited to three minutes per speaker, with no more than a total of 30 minutes for all speakers. Interested parties should contact Ms. White, DFO, in writing (preferably via e-mail), by April 12, 2007, for the April 19 teleconference, by June 1 for the June 8 teleconference, and by June 13 for the June 20-22 meeting, at the contact information noted above, to be placed on the list of public speakers for this meeting. Written Statements: Written statements should be received in the SAB Staff Office by the same dates. Written statements should be supplied to the DFO in the following formats: one hard copy with original signature, and one electronic copy via e-mail (acceptable file format: Adobe Acrobat PDF, WordPerfect, MS Word, MS PowerPoint, or Rich Text files in IBM-PC/Windows 98/2000/XP format).

Accessibility: For information on access or services for individuals with disabilities, please contact Ms. White at the phone number or e-mail address noted above, preferably at least ten days prior to the meeting, to give EPA as much time as possible to process your request.

Dated: March 16, 2007.
Anthony F. Maciorowski,
Deputy Director, EPA Science Advisory Board Staff Office.

[FR Doc. E7-5264 Filed 3-21-07; 8:45 am]

BILLING CODE 6560-50-P